DEPARTMENT OF HEALTH AND HUMAN SERVICES

Health Resources and Services Administration

Part D Grant for Coordinated HIV Services and Access to Research for Women, Infants, Children, and Youth Part D Funds Under the Ryan White HIV/AIDS Program

AGENCY: Health Resources and Services Administration (HRSA), HHS.

ACTION: Notice of Non-competitive Award of Part D Funds for the University of Utah.

SUMMARY: HRSA will be awarding, non-competitively, Part D Funds to support family-centered primary medical care, treatment, and support services (directly or through contracts) for women, infants, children, and youth with HIV/AIDS, to the University of Utah in order to ensure continuity of critical HIV medical care and support services, to women, infants, children and youth in Salt Lake City, Utah and the surrounding counties.

SUPPLEMENTARY INFORMATION: Grantee of record: Utah Department of Health, Salt Lake City, Utah.

Intended recipient of the award: University of Utah, Salt Lake City, Utah.

Amount of the award: $350.000 to ensure continuity of medical care and support services to the target population.

Authority: Section 2671 of the Public Health Service Act, 42 U.S.C. 300ff-71.

CFDA Number: 93.918.

Project period: August 1, 2010, to July 31, 2011. The period of support for this award is from August 1, 2010, to July 31, 2011.

Justification for the Exception to Competition

Funding for critical HIV medical care and support services to women, infants, children and youth in Salt Lake City, Utah and the surrounding areas will be continued through a non-competitive award to the University of Utah. The Utah Department of Health is currently contracting all of these services to the University of Utah. The University of Utah has the clinical, fiscal, and administrative infrastructure to administer the Part D Grant since it is currently the Part C Early Intervention Services Grant recipient. This is a temporary replacement award, as the previous grant recipient serving this population notified HRSA that it could not continue as the grantee of record after July 31, 2010. HRSA's HIV/AIDS Bureau identified the University of Utah as the best qualified entity for this temporary grant. Since the grant's inception, the Utah Department of Health has contracted with the University of Utah to provide all Part D services, and the University can continue to ensure family-centered care involving outpatient or ambulatory care (directly or through contracts) for women, infants, children, and youth living with HIV/AIDS. The University is able to provide critical services with the least amount of disruption to the service population while the service area is re-competed.

This supplement will cover the time period from August 1, 2010, through July 31, 2011. This service area will be included in the upcoming competition for the Part D Coordinated HIV Services and Access to Research for Women, Infants, Children, and Youth for project periods starting August, 2011.

FOR FURTHER INFORMATION CONTACT: Dora Ober, by e-mail dober@hrsa.gov, or by phone, 301-443-0759.

Dated: September 15, 2010.
Mary K. Wakefield,
Administrator.

[FR Doc. 2010-23715 Filed 9-21-10; 8:45 am]

BILLING CODE 4165-15-P